DEPARTMENT OF THE INTERIOR

National Park Service

[NPS-WASO-NAGPRA-NPS0036523; PPWOCRADN0-PCU00RP14.R50000]

Notice of Inventory Completion: Witte Museum, San Antonio, TX

AGENCY: National Park Service, Interior.

ACTION: Notice.

SUMMARY: In accordance with the Native American Graves Protection and Repatriation Act (NAGPRA), the Witte Museum has completed an inventory of human remains and associated funerary objects and has determined that there is no cultural affiliation between the human remains and associated funerary objects and any Indian Tribe or Native Hawaiian organization. The human remains and associated funerary objects were removed from Val Verde County, TX.

DATES: Re-interment of the human remains and associated funerary objects in this notice may occur on or after October 12, 2023.

ADDRESSES: Jennifer Barron, Witte Museum, 3801 Broadway Street, San Antonio, TX 78209, telephone (210) 357-1900, email jenniferbarron@wittemuseum.org.

SUPPLEMENTARY INFORMATION: This notice is published as part of the National Park Service's administrative responsibilities under NAGPRA. The determinations in this notice are the sole responsibility of the Witte Museum. The National Park Service is not responsible for the determinations in this notice. Additional information on the determinations in this notice, including the results of consultation, can be found in the inventory or related records held by the Witte Museum.

Description

From 1931 to 1969, human remains representing, at minimum, 25 individuals were recovered during multiple excavations, some organized by the Southwest Texas Archaeological Society and/or the Witte Museum from sites that include Shumla Caves 1-8, Eagle Cave, Jacal Canyon, and Zubermiller Cave in Val Verde County, TX. These human remains belong to six adult males, three adult females, one juvenile, seven infants, and eight individuals of indeterminate age and/or sex. They date to the Archaic period. The one associated funerary object is one lot consisting of “shaman's kit.”

In the 1930s, human remains representing, at minimum, one individual were collected by George Nalle II during an excavation in the Lower Pecos Canyonlands in Val Verde County, TX. In 2018, these human remains were given to the Witte Museum. They date to the Archaic period. No associated funerary objects are present.

Sometime prior to 1969, human remains representing, at minimum, one individual were collected from the Fate Bell Shelter in Val Verde County, TX. These human remains date to the Archaic period. No associated funerary objects are present.

Sometime prior to 1969, human remains representing, at minimum, five individuals were collected by Richard and Ben McReynolds from sites in Val Verde Canyon in Val Verde County, TX, including a shelter in Deadman's Canyon. In 2019, these human remains were given to the Witte Museum. They date to the Archaic period. No associated funerary objects are present.

Aboriginal Land

The human remains and associated funerary objects in this notice were removed from known geographic locations. These locations are the aboriginal lands of one or more Indian Tribes. The following information was used to identify the aboriginal land: treaties, Acts of Congress, and Executive Orders.

The Witte Museum consulted with all Indian Tribes who are aboriginal to the area from which these human remains and associated funerary objects were removed. None of these Indian Tribes agreed to accept control of the human remains and associated funerary objects.

The Witte Museum requested that the Secretary, through the Native American Graves Protection and Repatriation Review Committee (Review Committee), consider a proposal for the re-interment according to State or other law of the human remains and associated funerary objects in this notice. The Review Committee carefully considered the request at its June 2023 meeting and recommended to the Secretary that the proposed re-interment proceed. A July 2023 letter transmitted the Secretary's independent review and concurrence with the Review Committee that:

• the Witte Museum consulted with the appropriate Indian Tribes,

• none of the Indian Tribes agreed to accept control,

• none of the Indian Tribes objected to the proposed re-interment, and

• the Witte Museum may proceed with the proposed re-interment of the human remains and associated funerary objects as identified in the Determinations section.

Re-interment is contingent on the publication of a Notice of Inventory Completion in the Federal Register. This notice fulfills that requirement.

Determinations Made by the Witte Museum

Pursuant to NAGPRA and its implementing regulations, and after consultation with the Indian Tribes identified in this notice, the Witte Museum has determined that:

• The human remains described in this notice are Native American based on their precontact, Archaic period date.

• The human remains described in this notice represent the physical remains of 32 individuals of Native American ancestry.

• The one object described in this notice is reasonably believed to have been placed with or near individual human remains at the time of death or later as part of the death rite or ceremony.

• No relationship of shared group identity can be reasonably traced between the Native American human remains and associated funerary objects and any Indian Tribe or Native Hawaiian organization.

• The human remains and associated funerary objects described in this notice were removed from the aboriginal land of the Comanche Nation, Oklahoma; Mescalero Apache Tribe of the Mescalero Reservation, New Mexico; and the Wichita and Affiliated Tribes (Wichita, Keechi, Waco, & Tawakonie), Oklahoma.

• The human remains and associated funerary objects will be re-interred according to the law of Val Verde County, TX.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Re-interment of the human remains and associated funerary objects described in this notice may occur on or after October 12, 2023. If requests for disposition are received, the Witte Museum must determine the most appropriate requestor prior to disposition or re-interment. Requests for joint disposition of the human remains and associated funerary objects are considered a single request and not competing requests. The Witte Museum is responsible for sending a copy of this notice to the Indian Tribes identified in this notice.

Authority: Native American Graves Protection and Repatriation Act, 25 U.S.C. 3003, and the implementing regulations, 43 CFR 10.9 and § 10.11.

Dated: August 30, 2023.
Melanie O'Brien,
Manager, National NAGPRA Program.

[FR Doc. 2023-19599 Filed 9-11-23; 8:45 am]

BILLING CODE 4312-52-P